FEDERAL COMMUNICATIONS COMMISSION

47 CFR Part 73

[DA 03-2829; MB Docket No. 03-196; RM-10626]

Radio Broadcasting Services; Mt. Vernon and Okawville, IL

AGENCY: Federal Communications Commission.

ACTION: Proposed rule.

SUMMARY: This document requests comments on a petition for rulemaking filed by Benjamin Stratemeyer, licensee of Station WIBV(FM), Mount Vernon, Illinois, requesting the reallotment of Channel 271B1 from Mount Vernon to Okawville, Illinois, as the community's first local aural transmission service, and modification of the license of Station WIBV(FM) to reflect the change of community. The proposal also requires the reclassification of Station KEZK-FM, St. Louis, Missouri, Channel 273C to specify operation on Channel 273C0 pursuant to the reclassification procedures adopted by the Commission. See Second Report and Order in MM Docket 98-93 (1998 Biennial Regulatory Review—Streamlining of Radio Technical Rules in Parts 73 and 74 of the Commission's Rules) 65 FR 79773 (2000). An Order to Show Cause was issued to Infinity Radio Subsidiary Operations, Inc., licensee of Station KEZK(FM) (RM-10626). Channel 271B1 can be allotted at Okawville, Illinois, at Petitioner's requested site 19.0 kilometers (11.8 miles) southeast of the community. Coordinates for Channel 271B1 at Okawville are 38-21-56NL and 89-21-2 WL.

DATES: Comments must be filed on or before October 30, 2003, and reply comments on or before November 14, 2003. Any counterproposal filed in this proceeding need only protect Station KEZK(FM), St. Louis, Missouri, as a Class C0 allotment.

ADDRESSES: Federal Communications Commission, 445 Twelfth Street, SW., Washington, DC 20554. In addition to filing comments with the FCC, interested parties should serve the petitioner's counsel, and Station KEZK(FM) as follows: Clifford M. Harrington, Esq., Dawn M. Scarrino, Esq., Collette M. Capretz, Esq., Shaw Pittman, LLP, 2300 N Street NW., Washington, DC 20037-1128; Infinity Radio Subsidiary Operations Inc., 2000 K Street NW., Suite 725, Washington, DC 20006.

FOR FURTHER INFORMATION CONTACT: Victoria McCauley, Media Bureau, (202) 418-2180.

SUPPLEMENTARY INFORMATION: This is a synopsis of the Commission's Notice of Proposed Rule Making, MB Docket No. 03-196 adopted September 3, 2003, and released September 8, 2003. The full text of this Commission decision is available for inspection and copying during normal business hours in the FCC's Reference Information Center at Portals II, CY-A257, 445 Twelfth Street SW., Washington, DC. This document may also be purchased from the Commission's duplicating contractors, Qualex International, Portals II, 445 12th Street, SW., Room CY-B402, Washington, DC 20554, telephone (202) 863-2893, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Illinois is amended by removing Channel 271B1 at Mount Vernon and adding Okawville, Channel 271B1.

3. Section 73.202(b), the Table of FM Allotments under Missouri is amended by removing Channel 273C and adding Channel 273C0 at St. Louis.

Federal Communications Commission.
John A. Karousos,
Assistant Chief, Audio Division, Media Bureau.

[FR Doc. 03-24940 Filed 10-1-03; 8:45 am]

BILLING CODE 6712-01-P